INTERNATIONAL TRADE COMMISSION

[Inv. No. 337-TA-462]

In the Matter of Certain Plastic Molding Machines With Control Systems Having Programmable Operator Interfaces Incorporating General Purpose Computers, and Components Thereof II; Notice of Commission Decision not to Review an Initial Determination Terminating the Investigation as to Two Respondents on the Basis of a Settlement Agreement

AGENCY: U.S. International Trade Commission.

ACTION: Notice.

SUMMARY: Notice is hereby given that the U.S. International Trade Commission has determined not to review the presiding administrative law judge's (“ALJ's”) initial determination (“ID”)(Order No. 26) terminating the above-captioned investigation as to respondents Sidel S.A. and Sidel, Inc. based on a settlement agreement. Under ALJ Order No. 27, the investigation will continue so that complainant may have the opportunity to move for summary determination of violation and to request a general exclusion order pursuant to Commission rule 210.16(c)(2), 19 CFR 210.16(c)(2).

FOR FURTHER INFORMATION CONTACT: Jean Jackson, Esq., Office of the General Counsel, U.S. International Trade Commission, 500 E Street, SW.,Washington, DC 20436, telephone (202) 205-3104. Copies of the ALJ's ID and all other nonconfidential documents filed in connection with this investigation are or will be available for inspection during official business hours (8:45 a.m. to 5:15 p.m.) in the Office of the Secretary,U.S. International Trade Commission, 500 E Street, SW., Washington, DC 20436, telephone 202-205-2000. General information concerning the Commission may also be obtained by accessing its Internet server(http://www.usitc.gov). The public record for this investigation may be viewed on the Commission's electronic docket (EDIS-ON-LINE) at http://dockets.usitc.gov/eol/public. Hearing-impaired persons are advised that information on this matter can be obtained by contacting the Commission's TDD terminal on 202-205-1810.

SUPPLEMENTARY INFORMATION: The Commission instituted the above-captioned investigation on August 23, 2001, based on a complaint filed by Milacron, Inc. (Milacron) of Cincinnati, OH, against eleven respondents. 66 FR 44374 (2001). The complaint, as supplemented, alleged violations of section 337 of the Tariff Act of 1930 in the importation into the United States, sale for importation, and sale within the United States after importation of certain plastic molding machines with control systems having programmable operator interfaces incorporating general purpose computers, and components thereof, by reason of infringement of claims 1-4 and 9-13 of U.S. Patent No. 5,062,052. Sidel S.A. and Sidel, Inc. (collectively, Sidel) are the last respondents remaining in the investigation. The nine other respondents were previously terminated from the investigation on the basis of settlement agreements.

On April 9, 2002, Milacron, and Sidel filed a joint motion under Commission rule 210.21(b) to terminate the investigation as to Sidel based on a Settlement and Non-Exclusive License Agreement. On April 18, 2002,Milacron filed a motion to amend the procedural schedule so that it would have the opportunity to file a motion for summary determination of violation of section 337 and to request a general exclusion order. On April 19, 2002, the Commission investigative attorney filed a response in support of both the joint motion to terminate and Milacron's motion to amend the procedural schedule. On April 23, 2002, the presiding ALJ issued his ID terminating the investigation as to Sidel. On April 24, 2002, he issued Order No. 27, granting Milacron's request to amend the procedural schedule. No petitions for review of the ID were filed.

The authority for the Commission's determination is contained in section 337 of the Tariff Act of 1930, as amended (19 U.S.C. 1337), and in section 210.42 of the Commission's Rules of Practice and Procedure (19 CFR 210.42).

By order of the Commission.
Issued: May 23, 2002.
Marilyn R. Abbott,
Secretary.

[FR Doc. 02-13323 Filed 5-28-02; 8:45 am]

BILLING CODE 7020-02-P